DEPARTMENT OF LABOR

Office of the Secretary

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of the Secretary is soliciting comments concerning the proposed collection: National Agricultural Workers Survey. A copy of the proposed information collection request can be obtained by contacting the office listed below in the ADDRESSES section of this notice.

DATES: Written comments must be submitted to the office listed in the ADDRESSES section below on or before October 7, 2003.

ADDRESSES: Mr. Daniel Carroll, U.S. Department of Labor, 200 Constitution Ave., NW., Room S-2312, Washington, DC 20210, telephone (202) 693-5077, fax (202) 693-5961, e-mail carroll.daniel@dol.gov. Please use only one method of transmission for comments (mail, fax, or e-mail).

SUPPLEMENTARY INFORMATION: I. Background: The Department of Labor (DOL) has been continually surveying hired farm workers since 1988 via the National Agricultural Workers Survey (NAWS). The survey's primary focus is to describe the demographic and employment characteristics of hired crop farm workers at the national level. To date, over 36,000 farm workers have been interviewed.

The NAWS provides an understanding of the manpower resources available to U.S. agriculture, and both public and private service programs use the data for planning, implementing, and evaluating farm worker programs. It is the only national data source on the demographic and employment characteristics of hired crop farm workers.

The NAWS samples crop farm workers in three cycles each year to capture the seasonality of agricultural employment. Workers are located and sampled at their work sites. During the initial contact, arrangements are made to interview the respondent at home or at another convenient location. Currently, approximately 4,000 interviews are obtained each year.

The NAWS presently includes a primary questionnaire and four supplements (youth, parent, injury, and health). Beginning with the October 2003 interview cycle, the Department proposes to discontinue the youth, parent and occupational health supplements.

The youth and parent supplements were implemented in fiscal year 2000 as part of the Department's Child Labor Initiative. They were designed to collect information on the demographic and employment conditions of youth farm workers and on the barriers to education experienced by the children of farm workers.

Having collected four years of data under this initiative, the Department will evaluate the effectiveness of these instruments and methodology for obtaining information on youth crop workers. The Department therefore proposes to discontinue the youth and parent supplements at this time.

The occupational health supplement was designed to assess the health status of hired crop farm workers. Funded by the Centers for Disease Control and Prevention's National Institute for Occupational Safety and Health (CDC/NIOSH), the supplement was implemented in fiscal year 1999 to satisfy research priorities emanating from the Agricultural Occupational Safety and Health Initiative. CDC/NIOSH is proposing to exclude the occupational health supplement in fiscal year 2004. This would provide an opportunity for NIOSH to more thoroughly examine previously collected data and to evaluate the need for updating or modifying the supplement for future inclusion.

The purpose of this notice is to solicit comments regarding the ongoing primary questionnaire and occupational injury supplement, and the discontinuance of the youth, parent and occupational health supplements. The questionnaires are described below.

The NAWS Primary Questionnaire (ongoing)

The primary instrument is administered to crop agricultural workers 14 years and older. It contains a household grid, where the education level and migration history of each member of the respondent's household is recorded, and an employment grid, where a full year of employment and geographic movement of the respondent is detailed. It also contains sections on income, assets, legal status, use of public services, and experience working with and training on the safe use of pesticides.

The employment grid includes the task and crop for agricultural jobs, type and amount of non-agricultural work, periods of unemployment and time spent outside the U.S., and the respondent's location for every week of the year preceding the interview. For the respondent's current job, the NAWS collects information on wages and payment method (piece or hourly), health insurance, workers' compensation and unemployment insurance, housing arrangements, and other benefits and working conditions.

The demographic information collected include age, gender, place of birth, marital status, language ability, education and training, and family history working in U.S. agriculture.

The Occupational Injury Supplement (ongoing)

This CDC/NIOSH-sponsored supplement has been in place since fiscal year 1999. It is administered to all NAWS respondents who had a qualifying occupational injury in U.S. agriculture in the 12-month period before the date of interview. For each qualifying injury, the respondent is asked how, when and where the injury occurred, the body part(s) injured, where medical treatment was received, how the treatment was paid for, and the number of days the respondent couldn't work or worked at a reduced activity level.

The Youth Supplement (To Be Discontinued)

This supplement contains additional labor and education components and is administered to NAWS respondents ages 14 to 18.

The labor component solicits the respondent's age when he/she first went to an agricultural field in the U.S. (for any reason), and the age when he/she first worked or assisted a relative in a field. The method of payment, if any, for the first working or helping experience in the field is also recorded. This supplement also asks the youth respondent about any implements and equipment used while doing farm work.

The education component solicits school and attendance information for the 12-month period preceding the date of interview. For those youth who did not attend any school in the previous 12 months, the following information is obtained: the date of last attendance, type and location of school, reasons for no longer attending, and educational aspirations in the U.S.

The Parent Supplement (To Be Discontinued)

Type of Review: Revision.

Agency: Office of the Secretary.

Title: National Agricultural Workers Survey.

OMB Number: 1225-0044.

Affected Public: Farm workers and farm employers.

Total Respondents: 5,500 (4,000 farm workers will receive an interview and 1,500 employers will be briefly interviewed to ascertain the location of the potential worker respondents).

Time per Response: 20 minutes for employers; 60 minutes for workers.

Estimated Total Burden Hours: 4,536 hours.

Total Burden Cost (capital/startup): $0.

Total Burden Cost (operating/maintaining): $0.

Comments submitted in response to this notice will be summarized and/or included in the request for Office of Management and Budget approval of the information collection request; they will also become a matter of public record.

Dated: August 5, 2003.
Roland G. Droitsch,
Deputy Assistant Secretary for Policy.

[FR Doc. 03-20243 Filed 8-7-03; 8:45 am]

BILLING CODE 4510-23-P